NATIONAL TRANSPORTATION SAFETY BOARD

SES Performance Review Board

AGENCY: National Transportation Safety Board.

ACTION: Notice.

SUMMARY: Notice is hereby given of the appointment of members of the National Transportation Safety Board, Performance Review Board (PRB).

FOR FURTHER INFORMATION CONTACT: Emily T. Carroll, Chief, Human Resources Division, Office of Administration, National Transportation Safety Board, 490 L'Enfant Plaza SW, Washington, DC 20594-0001, (202) 314-6233.

SUPPLEMENTARY INFORMATION: Section 4314(c)(1) through (5) of Title 5, United States Code requires each agency to establish, in accordance with regulations prescribed by the Office of Personnel Management, one or more SES Performance Review Boards (PRB). The board reviews and evaluates the initial appraisal of a senior executive's performance by the supervisor and considers recommendations to the appointing authority regarding the performance of the senior executive.

The following have been designated as members of the 2019 Performance Review Board of the National Transportation Safety Board (NTSB): Mr. Edward Benthall, Chief Financial Officer, National Transportation Safety Board, PRB Chair.

Ms. Barbara A. Czech, Deputy Director, Office of Research and Engineering, National Transportation Safety Board.

Mr. Jerold Gidner, Principal Deputy Special Trustee, Office of the Special Trustee for American Indians, Department of Interior.

Ms. Claudia J. Postell, Associate Commissioner, Office of Civil Rights and Equal Opportunity, Social Security Administration.

Mr. Paul S. Sledzik, Deputy Managing Director, National Transportation Safety Board.

Ms. Katherine Herrera, Deputy Technical Director, Defense Nuclear Facilities Safety Board (alternate).

Ms. Susan A. Kantrowitz, Director, Office of Administration, National Transportation Safety Board (alternate).

Dated: November 1, 2019.
LaSean R. McCray,
Alternate Federal Register Liaison.

[FR Doc. 2019-24217 Filed 11-5-19; 8:45 am]

BILLING CODE 7533-01-P